DEPARTMENT OF ENERGY

Federal Energy Regulatory Commission

[Docket No. EC00-96-001]

P&L Coal Holdings Corporation, Citizens Power LLC, Citizens Power Holdings One, LLC and FC Energy Finance I, Inc.; Notice of Filing

June 26, 2000.

Take notice that on June 20, 2000, P&L Coal Holdings Corporation, Citizens Power LLC, Citizens Power Holdings One, LLC and FC Energy Finance I, Inc., tendered for filing a supplement to the Application for Order Authorizing Sale of Equity Interests filed with the Commission on May 23, 2000 in the above-referenced docket.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before July 7, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-16567 Filed 6-29-00; 8:45 am]

BILLING CODE 6717-01-M